FEDERAL COMMUNICATIONS COMMISSION

47 CFR Part 73

[DA 05-576; MB Docket No. 05-76, RM-11167; MB Docket No. 05-77, RM-11168; and MB Docket No. 05-78, RM-11169]

Radio Broadcasting Services; Silver Springs, NV; Covington, OK; and Poultney, VT

AGENCY: Federal Communications Commission.

ACTION: Proposed rule.

SUMMARY: This document sets forth three proposals to amend the FM Table of Allotments, § 73.202(b) of the Commission's rules, 47 CFR 73.202(b). The Commission requests comment on a petition filed by Dana J. Puopolo. Petitioner proposes the allotment of Channel 273C at Silver Springs, Nevada, as a first local service. Channel 273C can be allotted at Silver Springs in compliance with the Commission's minimum distance separation requirements with a site restriction of 47.7 km (29.7 miles) east of Silver Springs. The proposed coordinates for Channel 273C at Silver Springs are 39-30-00 North Latitude and 118-40-48 West Longitude. See Supplementary Information infra.

DATES: Comments must be filed on or before April 25, 2005, and reply comments on or before May 10, 2005.

ADDRESSES: Federal Communications Commission, Washington, DC 20554. In addition to filing comments with the FCC, interested parties should serve the designated petitioner as follows: Dana J. Puopolo, 2134 Oak Street, Unit C, Santa Monica, California 90495; Charles Crawford, 4553 Bordeaux Avenue, Dallas, Texas 75205.

FOR FURTHER INFORMATION CONTACT: Deborah A. Dupont, Media Bureau (202) 418-7072.

SUPPLEMENTARY INFORMATION: This is a synopsis of the Commission's Notice of Proposed Rule Making, MB Docket Nos. 05-76, 05-77, and 05-78, adopted March 2, 2005, and released March 4, 2005. The full text of this Commission decision is available for inspection and copying during normal business hours in the FCC Reference Information Center (Room CY-A257), 445 12th Street, SW., Washington, DC. The complete text of this decision may also be purchased from the Commission's copy contractor, Best Copy and Printing, Inc., 445 12th Street, SW., Room CY-B402, Washington, DC, 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Commission further requests comment on a petition filed by Charles Crawford. Petitioner proposes the allotment of Channel 290A at Covington, Oklahoma, as a first local service. Channel 290A can be allotted at Covington in compliance with the Commission's minimum distance separation requirements with a site restriction of 5.7km (3.5 miles) east of Covington. The proposed coordinates for Channel 290A at Covington are 36-18-26 North Latitude and 97-31-31 West Longitude.

The Commission further requests comment on a petition filed by Dana J. Puopolo. Petitioner proposes the allotment of Channel 223A at Poultney, Vermont, as a first local service. Channel 223A can be allotted at Poultney in compliance with the Commission's minimum distance separation requirements without site restriction at center city coordinates. The proposed coordinates for Channel 223A at Poultney are 43-31-06 North Latitude and 73-14-06 West Longitude. Concurrence in a specially negotiated allotment by the Government of Canada is required because the proposed allotment is located within 320 kilometers (199 miles) of the U.S.-Canadian border and would be short-spaced to Station CFQR-FM, Channel 223C1, Montreal, Quebec, Canada.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Nevada, is amended by adding Silver Springs, Channel 273C.

3. Section 73.202(b), the Table of FM Allotments under Oklahoma, is amended by adding Covington, Channel 290A.

4. Section 73.202(b), the Table of FM Allotments under Vermont, is amended by adding Poultney, Channel 223A.

Federal Communications Commission.
John A. Karousos,
Assistant Chief, Audio Division, Media Bureau

[FR Doc. 05-5175 Filed 3-15-05; 8:45 am]

BILLING CODE 6712-01-P